DEPARTMENT OF JUSTICE

Notice of Lodging of Consent Decree Pursuant to Sections 106 and 107 of CERCLA

Notice is hereby given that on May 5, 2000, the United states lodged a proposed Consent Decree with the United States District Court for the Southern district of Texas in United States and State of Texas v. Alpha Metals, Inc., et al., Civ. A. No. G-00250, in connection with related case Amoco Chemical Co., et al. v. United States, et al., Civ. A. No. G-96-272 (consolidated with Civ. A. No. G-96-247), pursuant to sections 106 and 107 of CERCLA, 42 U.S.C. 9606 and 9607. The proposed Consent Decree resolves civil claims of the United States and the State of Texas against settling generator defendants and settling former owner/operator defendants, and contribution claims against settling federal agencies, regarding the Tex Tin Superfund Site—a former tin and copper smelter and metals reclamation facility established during WWII—located in Texas City, Texas. Under the proposed Consent Decree, settling defendants agree to perform the cleanup of the Tex Tin Site, financed in substantial part by settling federal agencies, at an estimated cost of approximately $27 million. In addition, the settling parties agree, among other things, to finance a proposed remedy addressing continued erosion in the Swan Lake Marsh are near Galveston Bay, pay natural resource damages relating to losses and injuries in the Swan Lake Marsh area, and reimburse Amoco Chemical Company for past response costs for work it performed at the Site.

The Department of Justice will receive comments relating to the proposed Consent Decree for 30 days following publication of this Notice. Comments should be addressed to the Assistant Attorney General, Environment and Natural Resources Division, United States Department of Justice, P.O. Box 7611, Ben Franklin Station, Washington, DC 20044-7611, and should refer to United States and State of Texas v. Alpha Metals, Inc., et al., DOJ No. 90-11-3-1669. The proposed Consent Decree may be examined at the Office of the United States Attorney for the Southern District of Texas, Houston, Texas, and the Region VI Office of the United States Environmental Protection Agency, 1445 Ross Avenue, Dallas, Texas 75202. A copy of the proposed Consent Decree may be obtained by mail from the Department of Justice Consent Decree Library, P.O. Box 7611, Washington, DC 20044. In requesting a copy, please enclose a check for reproduction costs (at 25 cents per page) in the amount of $94.50 for the Decree, payable to the Consent Decree Library.

Joel M. Gross,
Chief, Environmental Enforcement Section, Environment and Natural Resources Division.

[FR Doc. 00-12734 Filed 5-19-00; 8:45 am]

BILLING CODE 4410-15-M